DEPARTMENT OF HOMELAND SECURITY

[Docket No. DHS-2016-0062]

Homeland Security Advisory Council—New Tasking

AGENCY: The Office of Partnership and Engagement, DHS.

ACTION: Notice of tasking assignment for the Homeland Security Advisory Council.

SUMMARY: The Secretary of the Department of Homeland Security (DHS), Jeh Johnson, tasked the Homeland Security Advisory Council to establish a subcommittee entitled the Privatized Immigration Detention Facilities Subcommittee on August 26, 2016. The Subcommittee will provide findings and recommendations to the Homeland Security Advisory Council on the Department's U.S. Immigration and Customs Enforcement's (ICE) current policy and practices concerning privatized immigration detention facilities and evaluate whether they should be eliminated. This notice informs the public of the establishment of the Privatized Immigration Detention Facilities Subcommittee and is not a notice for solicitation.

FOR FURTHER INFORMATION CONTACT: Sarah E. Morgenthau, Executive Director of the Homeland Security Advisory Council, Office of Partnership and Engagement, U.S. Department of Homeland Security at (202) 447-3135 or hsac@hq.dhs.gov.

SUPPLEMENTARY INFORMATION: The Homeland Security Advisory Council provides organizationally independent, strategic, timely, specific, and actionable advice and recommendations for the consideration of the Secretary of the Department of Homeland Security on matters related to homeland security. The Council is comprised of leaders of law enforcement, first responders, State and local government, the private sector, and academia.

Tasking: The Subcommittee will develop actionable findings and recommendations for the Department of Homeland Security. The Subcommittee will address ICE's current policy and practices concerning the use of private immigration detention facilities and evaluate whether this practice should be eliminated. This evaluation should consider all factors concerning policy and practice with respect to ICE's detention facilities, including fiscal considerations.

Schedule: The Subcommittee's findings and recommendations will be submitted to the Homeland Security Advisory Council for their deliberation and vote during a public meeting. Once the report is reviewed and voted on by the Homeland Security Advisory Council, the Council will provide its advice to the Secretary for his review and acceptance.

Dated: August 29, 2016.
Sarah E. Morgenthau,
Executive Director.

[FR Doc. 2016-21126 Filed 9-1-16; 8:45 am]

BILLING CODE 9110-9M-P